DEPARTMENT OF COMMERCE

International Trade Administration

[A-570-178]

Certain Tungsten Shot From the People's Republic of China: Initiation of Less-Than-Fair-Value Investigation

AGENCY: Enforcement and Compliance, International Trade Administration, Department of Commerce.

DATES: Applicable August 6, 2024.

FOR FURTHER INFORMATION CONTACT: Adam Simons, AD/CVD Operations, Office IX, Enforcement and Compliance, International Trade Administration, U.S. Department of Commerce, 1401 Constitution Avenue NW, Washington, DC 20230; telephone: (202) 482-6172.

SUPPLEMENTARY INFORMATION:

The Petition

On July 10, 2024, the U.S. Department of Commerce (Commerce) received an antidumping duty (AD) petition concerning imports of certain tungsten shot (tungsten shot) from the People's Republic of China (China) filed in proper form on behalf of Tungsten Parts Wyoming, Inc. (the petitioner), a U.S. producer of tungsten shot.¹ The Petition was accompanied by a countervailing duty (CVD) petition concerning imports of tungsten shot from China.²

¹ See Petitioner's Letter, “Petitions for the Imposition of Antidumping and Countervailing Duties,” dated July 10, 2024 (the Petition).

² Id.

On July 22, 2024, Commerce tolled certain deadlines in this administrative proceeding by seven days.³ The deadline for initiation is now August 6, 2024.

³ See Memorandum, “Tolling of Deadlines for Antidumping and Countervailing Duty Proceedings,” dated July 22, 2024.

Between July 12 and July 25, 2024, Commerce requested supplemental information pertaining to certain aspects of the Petition in supplemental questionnaires.⁴ The petitioner responded to Commerce's supplemental questionnaires between July 18 and July 26, 2024.⁵

⁴ See Commerce's Letters, “Supplemental Questions,” dated July 12, 2024 (General Issues Questionnaire); “Supplemental Questions,” dated July 12, 2024; and “Supplemental Questions,” dated July 25, 2024; see also Memorandum, “Phone Call with Counsel to Petitioner,” dated July 22, 2024 (July 22 Memorandum).

⁵ See Petitioner's Letters, “Petitioner's Response to Supplemental Questions Regarding Common Issues and Injury Volume I of the Petitions,” dated July 18, 2024 (First General Issues Supplement); “Petitioner's Response to Supplemental Questions Regarding Volume II of the Petitions,” dated July 18, 2024; “Petitioner's Response to Second Supplemental Questions Regarding Volume II of the Petitions,” dated July 23, 2024; “Petitioner's Response to Second Supplemental Questions Regarding Volume I of the Petitions,” dated July 24, 2024 (Second General Issues Supplement); and “Petitioner's Response to Third Supplemental Questions Regarding Volume I of the Petitions,” dated July 26, 2024 (Third General Issues Supplement).

In accordance with section 732(b) of the Tariff Act of 1930, as amended (the Act), the petitioner alleges that imports of tungsten shot from China are being, or are likely to be, sold in the United States at less than fair value (LTFV) within the meaning of section 731 of the Act, and that imports of such products materially retard the establishment of an industry in the United States, or in the alternative, that such products are materially injuring, or threatening material injury to, the tungsten shot industry in the United States. Consistent with section 732(b)(1) of the Act, the Petition was accompanied by information reasonably available to the petitioner supporting its allegations.

Commerce finds that the petitioner filed the Petition on behalf of the domestic industry, because the petitioner is an interested party, as defined in sections 771(9)(C) of the Act. Commerce also finds that the petitioner demonstrated sufficient industry support for the initiation of the requested LTFV investigation.⁶

⁶ See section on “Determination of Industry Support for the Petition,” infra.

Period of Investigation

Because the Petition was filed on July 10, 2024, and because China is a non-market economy (NME) country, pursuant to 19 CFR 351.204(b)(1), the period of investigation (POI) for the China LTFV investigation is January 1, 2024, through June 30, 2024.

Scope of the Investigation

The product covered by this investigation is tungsten shot from China. For a full description of the scope of this investigation, see the appendix to this notice.

Comments on the Scope of the Investigation

Between July 12 and July 22, 2024, Commerce requested information and clarification from the petitioner regarding the proposed scope to ensure that the scope language in the Petition is an accurate reflection of the products for which the domestic industry is seeking relief.⁷ Between July 18 and July 24, 2024, the petitioner provided clarifications and revised the scope.⁸ The description of merchandise covered by this investigation, as described in the appendix to this notice, reflects these clarifications.

⁷ See General Issues Questionnaire; see also July 22 Memorandum.

⁸ See First General Issues Supplement at 1; see also Second General Issues Supplement at 1-2.

As discussed in the Preamble to Commerce's regulations, we are setting aside a period for interested parties to raise issues regarding product coverage (i.e., scope).⁹ Commerce will consider all scope comments received from interested parties and, if necessary, will consult with interested parties prior to the issuance of the preliminary determination. If scope comments include factual information,¹⁰ all such factual information should be limited to public information. To facilitate preparation of its questionnaires, Commerce requests that scope comments be submitted by 5:00 p.m. Eastern Time (ET) on August 26, 2024, which is 20 calendar days from the signature date of this notice.¹¹ Any rebuttal comments, which may include factual information, and should also be limited to public information, must be filed by 5:00 p.m. ET on September 5, 2024, which is 10 calendar days from the initial comment deadline.¹²

⁹ See Antidumping Duties; Countervailing Duties, Final Rule, 62 FR 27296, 27323 (May 19, 1997) (Preamble); see also 19 CFR 351.312.

¹⁰ See 19 CFR 351.102(b)(21) (defining “factual information”).

¹¹ See 19 CFR 351.303(b)(1).

¹² Id.

Commerce requests that any factual information that parties consider relevant to the scope of this investigation be submitted during that period. However, if a party subsequently finds that additional factual information pertaining to the scope of the investigation may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.¹³ An electronically filed document must be received successfully in its entirety by the time and date it is due.

¹³ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties with an opportunity to comment on the appropriate physical characteristics of tungsten shot to be reported in response to Commerce's AD questionnaires. This information will be used to identify the key physical characteristics of the subject merchandise in order to report the relevant factors of production (FOP) accurately, as well as to develop appropriate product comparison criteria.

Interested parties may provide any information or comments that they feel are relevant to the development of an accurate list of physical characteristics. In order to consider the suggestions of interested parties in developing and issuing the AD questionnaire, all product characteristics comments must be filed by 5:00 p.m. ET on August 26, 2024, which is 20 calendar days from the signature date of this notice.¹⁴ Any rebuttal comments must be filed by 5 p.m. ET on September 5, 2024, which is 10 calendar days from the initial comment deadline. All comments and submissions to Commerce must be filed electronically using ACCESS, as explained above, on the record of the LTFV investigation.

¹⁴ See 19 CFR 351.303(b)(1).

Determination of Industry Support for the Petition

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹⁵ they do so for different purposes and pursuant to a separate and distinct authority. In addition, Commerce's determination is subject to limitations of time and information. Although this may result in different definitions of the like product, such differences do not render the decision of either agency contrary to law.¹⁶

¹⁵ See section 771(10) of the Act.

¹⁶ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹⁷ Based on our analysis of the information submitted on the record, we have determined that tungsten shot, as defined in the scope, constitutes a single domestic like product, and we have analyzed industry support in terms of that domestic like product.¹⁸

¹⁷ See Petition at Volume I (pages 8-11 and Exhibit I-9); see also First General Issues Supplement at 3-4 and Exhibit I-SUPP-5.

¹⁸ For a discussion of the domestic like product analysis as applied to this case and information regarding industry support, see Checklist, “Certain Tungsten Shot from the People's Republic of China,” dated concurrently with, and hereby adopted by, this notice (China AD Initiation Checklist) at Attachment II, Analysis of Industry Support for the Antidumping and Countervailing Duty Petitions Covering Certain Tungsten Shot from the People's Republic of China (Attachment II). This checklist is on file electronically via ACCESS.

In determining whether the petitioner has standing under section 732(c)(4)(A) of the Act, we considered the industry support data contained in the Petition with reference to the domestic like product as defined in the “Scope of the Investigation,” in the appendix to this notice. To establish industry support, the petitioner provided its own production of the domestic like product in 2023.¹⁹ The petitioner stated that there are no other known producers of tungsten shot in the United States; therefore, the Petition is supported by 100 percent of the U.S. industry.²⁰ We relied on data provided by the petitioner for purposes of measuring industry support.²¹

¹⁹ See Petition at Volume I (page 2 and Exhibits I-3 and I-10); see also Third General Issues Supplement at 2 and Exhibit I-SUPP3-1.

²⁰ Id. at 2 and Exhibit I-3; see also First General Issues Supplement at 2-3 and Exhibits I-SUPP-1 through I-SUPP-4; and Second General Issues Supplement at 2 and Exhibits I-SUPP-3 AND I-SUPP-4.

²¹ See Petition at Volume I (page 2 and Exhibit I-3); see also First General Issues Supplement at 2-3 and Exhibits I-SUPP-1 through I-SUPP-4; Second General Issues Supplement at 2 and Exhibits I-SUPP-3 AND I-SUPP-4; and Third General Issues Supplement at 1 and Exhibit I-SUPP3-1. For further discussion, see Attachment II of the China AD Initiation Checklist.

Our review of the data provided in the Petition, the First General Issues Supplement, the Second General Issues Supplement, the Third General Issues Supplement, and other information readily available to Commerce indicates that the petitioner has established industry support for the Petition.²² First, the Petition established support from domestic producers (or workers) accounting for more than 50 percent of the total production of the domestic like product and, as such, Commerce is not required to take further action in order to evaluate industry support (e.g., polling).²³ Second, the domestic producers (or workers) have met the statutory criteria for industry support under section 732(c)(4)(A)(i) of the Act because the domestic producers (or workers) who support the Petition account for at least 25 percent of the total production of the domestic like product.²⁴ Finally, the domestic producers (or workers) have met the statutory criteria for industry support under section 732(c)(4)(A)(ii) of the Act because the domestic producers (or workers) who support the Petition account for more than 50 percent of the production of the domestic like product produced by that portion of the industry expressing support for, or opposition to, the Petition.²⁵ Accordingly, Commerce determines that the Petition was filed on behalf of the domestic industry within the meaning of section 732(b)(1) of the Act.²⁶

²² See Attachment II of the China AD Initiation Checklist.

²³ Id.; see also section 732(c)(4)(D) of the Act.

²⁴ See Attachment II of the China AD Initiation Checklist.

²⁵ Id.

²⁶ Id.

Allegations and Evidence of Material Retardation, Material Injury, and Causation

Section 773(a)(1)(B) of the Act states that the ITC “shall determine . . . whether there is a reasonable indication that the establishment of an industry in the United States is materially retarded by reason of imports of the subject merchandise.” The petitioner alleges that imports of subject merchandise sold at LTFV from China have materially retarded the establishment of the U.S. industry producing tungsten shot.²⁷ The petitioner argues that that its production has been “modest” and has not stabilized and, therefore, the U.S. industry producing tungsten shot has not been established.²⁸ To support its argument, the Petitioner examines the five factors ²⁹ considered by the ITC to determine if an industry is established,³⁰ as set forth in the ITC's AD/CVD Handbook.³¹ If the ITC determines that an industry is not established, it then considers whether the performance of the industry reflects normal start-up difficulties or whether the imports of the subject merchandise have materially retarded the establishment of the industry.³² The petitioner contends that the domestic industry has performed substantially worse than what could reasonably be expected during normal start-up conditions, thereby demonstrating that the establishment of the domestic industry has been materially retarded by subject imports.³³ The petitioner also alleges that, in the alternative, the U.S. industry producing the domestic like product is being materially injured, or is threatened with material injury, by reason of the imports of the subject merchandise sold at less than LTFV.³⁴ In addition, the petitioner alleges that subject imports exceed the negligibility threshold provided for under section 771(24)(A) of the Act.³⁵

²⁷ See Petition at Volume I (pages 11-25 and Exhibits I-3, I-7, and I-10 through I-14); see also Second General Issues Supplement at 3 and Exhibit I-SUPP2-3; and Third General Issues Supplement at 1 and Exhibit I-SUPP3-1.

²⁸ See Petition at Volume I (pages 13-18 and Exhibits I-3 and I-10); see also Second General Issues Supplement at 3 and Exhibit I-SUPP2-3; and Third General Issues Supplement at 1 and Exhibit I-SUPP3-1.

²⁹ For a discussion of the factors related to whether an industry is established, see China AD Initiation Checklist at Attachment III, Analysis of Allegations and Evidence of Material Retardation, Material Injury, and Causation for the Antidumping and Countervailing Duty Petitions Covering Certain Tungsten Shot from the People's Republic of China (Attachment III).

³⁰ See Petition at Volume I (pages 13-18 and Exhibits I-3 and I-10) see also Third General Issues Supplement at 1 and Exhibit I-SUPP3-1.

³¹ See Antidumping and Countervailing Duty Handbook (14th Ed.), USITC Pub. 4540 (June 2015) at II-33.

³² Id.

³³ See Petition at Volume I (Exhibit I-13); see also Second General Issues Supplement at 3.

³⁴ See Petition at Volume I (page 25).

³⁵ Id. at 21-22 and Exhibit I-12; see also First General Issues Supplement at 4; and Second General Issues Supplement at 2-3 and Exhibit I-SUPP2-4.

The petitioner contends that the industry's materially retarded, or in the alternative, injured condition is illustrated by a significant volume of subject imports; significant market share of subject imports; lost sales and revenues; underselling and price depression and/or suppression; and negative impact on income and financial performance.³⁶ We assessed the allegations and supporting evidence regarding material retardation, or in the alternative, material injury, threat of material injury, causation, as well as negligibility, and we have determined that these allegations are properly supported by adequate evidence and meet the statutory requirements for initiation.³⁷

³⁶ See Petition at Volume I (pages 11-30 and Exhibits I-3, I-7, and I-10 through I-18); see also First General Issues Supplement at 4-5 and Exhibit I-SUPP-6; Second General Issues Supplement at 2-3 and Exhibits I-SUPP2-2 through I-SUPP2-3; and Third General Issues Supplement at 1 and Exhibit I-SUPP3-1.

³⁷ See Attachment III of the China AD Initiation Checklist.

Allegations of Sales at LTFV

The following is a description of the allegations of sales at LTFV upon which Commerce based its decision to initiate an LTFV investigation of imports of tungsten shot from China. The sources of data for the deductions and adjustments relating to U.S. price and normal value (NV) are discussed in greater detail in the China AD Initiation Checklist.

U.S. Price

The petitioner based export price (EP) on pricing information for sales, or offers for sale, of tungsten shot produced in and exported from China.³⁸ The petitioner made certain adjustments to U.S. price to calculate a net ex-factory U.S. price, where applicable.³⁹

³⁸ See China AD Initiation Checklist.

³⁹ Id.

Normal Value

Commerce considers China to be an NME country.⁴⁰ In accordance with section 771(18)(C)(i) of the Act, any determination that a foreign country is an NME country shall remain in effect until revoked by Commerce. Therefore, we continue to treat China as an NME country for purposes of the initiation of this China LTFV investigation. Accordingly, we base NV on FOPs valued in a surrogate market economy country in accordance with section 773(c) of the Act.

⁴⁰ See, e.g., Certain Freight Rail Couplers and Parts Thereof from the People's Republic of China: Preliminary Affirmative Determination of Sales at Less Than Fair Value and Preliminary Affirmative Determination of Critical Circumstances, 88 FR 15372 (March 13, 2023), and accompanying Preliminary Decision Memorandum at 5, unchanged in Certain Freight Rail Couplers and Parts Thereof from the People's Republic of China: Final Affirmative Determination of Sales at Less-Than-Fair Value and Final Affirmative Determination of Critical Circumstances, 88 FR 34485 (May 30, 2023).

The petitioner claims that Chile is an appropriate surrogate country for China because it is a market economy that is at a level of economic development comparable to that of China and is a significant producer of comparable merchandise.⁴¹ The petitioner provided publicly available information from Chile to value all FOPs.⁴² Based on the information provided by the petitioner, we believe it is appropriate to use Chile as a surrogate country for China to value all FOPs for initiation purposes.

⁴¹ See China AD Initiation Checklist.

⁴² Id.

Interested parties will have the opportunity to submit comments regarding surrogate country selection and, pursuant to 19 CFR 351.301(c)(3)(i), will be provided an opportunity to submit publicly available information to value FOPs within 30 days before the scheduled date of the preliminary determination.

Factors of Production

Because information regarding the volume of inputs consumed by Chinese producers/exporters was not reasonably available, the petitioner used its own product-specific consumption rates as a surrogate to value Chinese manufacturers' FOPs.⁴³ Additionally, the petitioner calculated factory overhead, selling, general, and administrative expenses, and profit based on the experience of a Chilean producer of comparable merchandise.⁴⁴

⁴³ Id.

⁴⁴ Id.

Fair Value Comparisons

Based on the data provided by the petitioner, there is reason to believe that imports of tungsten shot from China are being, or are likely to be, sold in the United States at LTFV. Based on comparisons of EP to NV, in accordance with sections 772 and 773 of the Act, the estimated dumping margin is 201.32 percent ad valorem.⁴⁵

⁴⁵ Id.

Initiation of LTFV Investigation

Based upon the examination of the Petition and supplemental questionnaire responses, we find that they meet the requirements of section 732 of the Act. Therefore, we are initiating an LTFV investigation to determine whether imports of tungsten shot from China are being, or are likely to be, sold in the United States at LTFV. In accordance with section 733(b)(1)(A) of the Act and 19 CFR 351.205(b)(1), unless postponed, we will make our preliminary determination no later than 140 days after the date of this initiation.

Respondent Selection

In the Petition, the petitioner named 10 companies in China as producers and/or exporters of tungsten shot.⁴⁶ Our standard practice for respondent selection in AD investigations involving NME countries is to select respondents based on quantity and value (Q&V) questionnaires in cases where Commerce has determined that the number of companies is large, and it cannot individually examine each company based upon its resources. Therefore, considering the number of producers and/or exporters identified in the Petition, Commerce will solicit Q&V information that can serve as a basis for selecting exporters for individual examination in the event that Commerce determines that the number is large and decides to limit the number of respondents individually examined pursuant to section 777A(c)(2) of the Act. Because there are 10 Chinese producers and/or exporters identified in the Petition, Commerce has determined that it will issue Q&V questionnaires to each potential respondent for which there is complete address information on the record.

⁴⁶ See Petition at Volume I (page 6 and Exhibit I-6).

Commerce will post the Q&V questionnaires along with filing instructions on Commerce's website at https://www.trade.gov/ec-adcvd-case-announcements. Producers/exporters of tungsten shot from China that do not receive Q&V questionnaires may still submit a response to the Q&V questionnaire and can obtain a copy of the Q&V questionnaire from Commerce's website. Responses to the Q&V questionnaire must be submitted by the relevant Chinese producers/exporters no later than 5:00 p.m. ET on August 20, 2024, which is two weeks from the signature date of this notice. All Q&V questionnaire responses must be filed electronically via ACCESS. An electronically filed document must be received successfully, in its entirety, by ACCESS no later than 5:00 p.m. ET on the deadline noted above.

Interested parties must submit applications for disclosure under administrative protective order (APO) in accordance with 19 CFR 351.305(b). As stated above, instructions for filing such applications may be found on Commerce's website at https://www.trade.gov/administrative-protective-orders.

Separate Rates

In order to obtain separate rate status in an NME investigation, exporters and producers must submit a separate rate application. The specific requirements for submitting a separate rate application in an NME investigation are outlined in detail in the application itself, which is available on Commerce's website at https://access.trade.gov/Resources/nme/nme-sep-rate.html. The separate rate application will be due 30 days after publication of this initiation notice. Exporters and producers must file a timely separate rate application if they want to be considered for individual examination. Exporters and producers who submit a separate rate application and have been selected as mandatory respondents will be eligible for consideration for separate rate status only if they respond to all parts of Commerce's AD questionnaire as mandatory respondents. Commerce requires that companies from China submit a response both to the Q&V questionnaire and to the separate rate application by the respective deadlines to receive consideration for separate rate status. Companies not filing a timely Q&V questionnaire response will not receive separate rate consideration.

Use of Combination Rates

Commerce will calculate combination rates for certain respondents that are eligible for a separate rate in an NME investigation. The Separate Rates and Combination Rates Bulletin states:

{w}hile continuing the practice of assigning separate rates only to exporters, all separate rates that {Commerce} will now assign in its NME investigation will be specific to those producers that supplied the exporter during the period of investigation. Note, however, that one rate is calculated for the exporter and all of the producers which supplied subject merchandise to it during the period of investigation. This practice applies both to mandatory respondents receiving an individually calculated separate rate as well as the pool of non-investigated firms receiving the {weighted average} of the individually calculated rates. This practice is referred to as the application of “combination rates” because such rates apply to specific combinations of exporters and one or more producers. The cash-deposit rate assigned to an exporter will apply only to merchandise both exported by the firm in question and produced by a firm that supplied the exporter during the period of investigation.⁴⁷

⁴⁷ See Enforcement and Compliance's Policy Bulletin No. 05.1, regarding, “Separate-Rates Practice and Application of Combination Rates in Antidumping Investigation involving NME Countries,” (April 5, 2005), at 6 (emphasis added), available on Commerce's website at https://access.trade.gov/Resources/policy/bull05-1.pdf.

Distribution of Copies of the Petition

In accordance with section 732(b)(3)(A) of the Act and 19 CFR 351.202(f), a copy of the public version of the Petition has been provided to the Government of China via ACCESS. To the extent practicable, we will attempt to provide a copy of the public version of the Petition to each exporter named in the Petition, as provided under 19 CFR 351.203(c)(2).

ITC Notification

Commerce will notify the ITC of its initiation, as required by section 732(d) of the Act.

Preliminary Determination by the ITC

The ITC will preliminarily determine, within 45 days after the date on which the Petition was filed, whether there is a reasonable indication that imports of tungsten shot from China materially retard the establishment of a U.S. industry, or that such imports are materially injuring, or threatening material injury to, a U.S. industry.⁴⁸ A negative ITC determination will result in the investigation being terminated.⁴⁹ Otherwise, this LTFV investigation will proceed according to statutory and regulatory time limits.

⁴⁸ See section 733(a) of the Act.

⁴⁹ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁵⁰ and, if the information is submitted to rebut, clarify, or correct factual information already on the record, to provide an explanation identifying the information already on the record that the factual information seeks to rebut, clarify, or correct.⁵¹ Time limits for the submission of factual information are addressed in 19 CFR 351.301, which provides specific time limits based on the type of factual information being submitted. Interested parties should review the regulations prior to submitting factual information in this investigation.

⁵⁰ See 19 CFR 351.301(b).

⁵¹ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁵² For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in this investigation.⁵³

⁵² See 19 CFR 351.301; see also Extension of Time Limits; Final Rule, 78 FR 57790 (September 20, 2013) (Time Limits Final Rule), available at https://www.gpo.gov/fdsys/pkg/FR-2013-09-20/html/2013-22853.htm.

⁵³ See 19 CFR 351.302; see also, e.g., Time Limits Final Rule.

Certification Requirements

Any party submitting factual information in an AD or CVD proceeding must certify to the accuracy and completeness of that information.⁵⁴ Parties must use the certification formats provided in 19 CFR 351.303(g).⁵⁵ Commerce intends to reject factual submissions if the submitting party does not comply with the applicable certification requirements.

⁵⁴ See section 782(b) of the Act.

⁵⁵ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in this investigation should ensure that they meet the requirements of 19 CFR 351.103(d) (e.g., by filing the required letter of appearance). Note that Commerce has amended certain of its requirements pertaining to the service of documents in 19 CFR 351.303(f).⁵⁶

⁵⁶ See Administrative Protective Order, Service, and Other Procedures in Antidumping and Countervailing Duty Proceedings, 88 FR 67069 (September 29, 2023).

This notice is issued and published pursuant to sections 732(c)(2) and 777(i) of the Act, and 19 CFR 351.203(c).

Dated: August 6, 2024.
Scot Fullerton,
Acting Deputy Assistant Secretary for Antidumping and Countervailing Duty Operations.

Appendix

Scope of the Investigation

The merchandise covered by the investigation is certain tungsten spheres or balls, also known as shot, that are 92.6 percent or greater tungsten by weight, not including the weight of any additional coating. In scope shot have a diameter ranging from 1.5 millimeters (mm) to 10.0 mm. Subject shot can be referred to as “Tungsten Super Shot.” Merchandise is covered regardless of the combination of compounds that comprise the non-tungsten material and whether or not the tungsten shot is additionally coated with another material, including but not limited to copper, nickel, iron, or metallic alloys.

Tungsten shot subject to the investigation may be classified under the following Harmonized Tariff Schedule of the United States (HTSUS) subheading: 9306.29.0000. Merchandise may also be entered under HTSUS subheading 8101.99.8000. The HTSUS subheadings are provided for convenience and customs purposes only. The written description of the scope of the investigation is dispositive.

[FR Doc. 2024-18008 Filed 8-12-24; 8:45 am]

BILLING CODE 3510-DS-P